SURFACE TRANSPORTATION BOARD

[Docket No. EP 751]

Filings Submitted or Due To Be Submitted During the Partial Federal Government Shutdown

AGENCY: Surface Transportation Board.

ACTION: Notice.

SUMMARY: The Board provides notice that any material due to be submitted to the Board during the partial Federal government shutdown period (including comments on environmental documents) will now be due no later than February 4, 2019, unless otherwise ordered by the Board. Further, filings (including recordations) that were submitted during the shutdown will be considered filed on January 28, 2019, provided all filing requirements have been met.

DATES: January 28, 2019.

FOR FURTHER INFORMATION CONTACT: Ryan Lee, (202) 245-0394. Assistance for the hearing impaired is available through the Federal Information Relay Service (FIRS) at: (800) 877-8339.

SUPPLEMENTARY INFORMATION: During the partial shutdown of the Federal government from December 22, 2018, through January 25, 2019, all deadlines requiring the submission of material to the Board were tolled. The Board is now providing notice that any material due to be submitted to the Board during the shutdown period (including comments on environmental documents) is due no later than February 4, 2019, unless otherwise ordered by the Board. Should a party to a proceeding believe that further modification to a procedural schedule is necessary, the party should request an extension in that case docket. Filings submitted during the shutdown should not be resubmitted. All filings (including recordations) submitted during the shutdown will be considered filed on January 28, 2019, provided all filing requirements have been met.

Decided: January 28, 2019.
By the Board, Allison C. Davis, Acting Director, Office of Proceedings.
Raina Contee,
Clearance Clerk.

[FR Doc. 2019-00721 Filed 1-31-19; 8:45 am]

BILLING CODE 4915-01-P